DEPARTMENT OF ENERGY

Federal Energy Regulatory Commission

[Docket Nos. CP03-353-000 & CP03-355-000]

Columbia Gas Transmission, Energy Corporation of America & Eastern American Energy Corporation; Notice of Application

September 25, 2003.

On September 16, 2003, Columbia Gas Transmission Corporation (Columbia), Energy Corporation of America (ECA), and Eastern American Energy Corporation (EAEC), filed a joint application pursuant to Section 7(b) of the Natural Gas Act (NGA), as amended, and the Federal Energy Regulatory Commission's (Commission) Rules and Regulations. Columbia requests authorization to abandon by sale to ECA certain facilities located in West Virginia as well as the services currently provided by the facilities. Columbia requests that the facilities be determined to be non-jurisdictional gathering facilities and exempt from the Commission's jurisdiction pursuant to NGA § 7(b). EAEC, a wholly owned subsidiary of ECA and an explorer, developer and producer of oil and natural gas would own and operated the facilities to provide current services, as more fully set forth in the application. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

The facilities proposed for abandonment by sale are Columbia's 8000 system which consists of some 87.8 miles of jurisdictional pipeline and appurtenances. The proposed sale would also include about 10 miles of non-jurisdictional pipeline. The facilities were constructed by Columbia's predecessor in the early 1900's as part of a low-pressure transmission system to support Columbia's merchant role. However the facilities currently transmit local production from various points along the facilities, providing service to local markets along the facilities. Columbia states that the facilities are no longer pertinent to its transporter role. EAEC/ECA the owner and operator of the facilities following the sale requests that it be issued a limited jurisdiction certificate pursuant to NGA § 7(c), so on the rare occasion that local supply is insufficient to supply all service needs, they may utilize interstate natural gas. The sale price for both the jurisdictional and non-jurisdictional facilities is $1.2 Million.

Questions regarding the application may be directed to V. J. Hamilton, Senior Certificate Coordinator, or Frederic J. George, Senior Attorney, both at Columbia Gas Transmission Corporation, P.O. Box 1273, Charleston, West Virginia 25325-1273 or by calling respectively, 304-357-2297 (304-357-2926 Fax) or 304-357-2359 (304-357-3206 Fax).

There are two ways to become involved in the Commission's review of this project. First, any person wishing to obtain legal status by becoming a party to the proceedings for this project should, on or before the comment date below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

Comments, protests and interventions may be filed electronically via the Internet in lieu of paper. The Commission strongly encourages electronic filings. See 18 CFR 385.2001(a)(1)(iii) and the instructions on the Commission's Web site under the “e-Filing” link.

Comment Date: October 16, 2003.

Linda Mitry,
Acting Secretary.

[FR Doc. 03-24883 Filed 10-2-03; 8:45 am]

BILLING CODE 6717-01-P